DEPARTMENT OF STATE

[Public Notice: 7024]

Lifting of Policy of Denial of Munitions Export Licenses and Other Approvals Destined for Tula Instrument Design Bureau

SUMMARY: The Department of State is lifting the policy of denial for Tula Instrument Design Bureau pursuant to section 38 of the Arms Export Control Act (AECA) and section 126.7 of the International Traffic in Arms Regulations (ITAR).

DATES: Effective Date: May 24, 2010.

FOR FURTHER INFORMATION CONTACT: Lisa V. Studtmann, Director, Office of Defense Trade Controls Compliance, Bureau of Political-Military Affairs, Department of State (202) 663-2477.

SUPPLEMENTARY INFORMATION: Section 126.7 of the ITAR provides that any application for an export license or other approval under the ITAR may be disapproved and any license or other approval or exemption granted may be revoked, suspended, or amended without prior notice whenever, among other things, the Department of State believes that section 38 of the AECA (22 U.S.C. 2778), any regulation contained in the ITAR, or the terms of any U.S. Government export authorization (including terms of a manufacturing license or technical assistance agreement, or export authorization granted pursuant to the Export Administration Act, as amended) has been violated by any party to the export or other person having a significant interest in the transaction; or whenever the Department of State deems such action to be in furtherance of world peace, the national security or the foreign policy of the United States, or is otherwise advisable. A determination was made on May 12, 2010, that it is in the foreign policy or national security interests of the United States to remove the restrictions imposed on Tula Instrument Design Bureau pursuant to Section 126.7 of the ITAR.

Dated: May 17, 2010.
Andrew J. Shapiro,
Assistant Secretary, Department of State.

[FR Doc. 2010-12448 Filed 5-21-10; 8:45 am]

BILLING CODE 4710-25-P